DEPARTMENT OF HOUSING AND URBAN DEVELOPMENT

[Docket No. FR-5681-N-29]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 2261 Hughes Avenue, Suite 156, Lackland AFB, TX, 78236-9852, (210)-395-9512; Army: Ms. Veronica Rines, Office of the Assistant Chief of Staff for Installation Management, Department of Army, Room 5A128, 600 Army Pentagon, Washington, DC 20310, (571)-256-814; GSA: Mr. Flavio Peres, General Services Administration, Office of Real Property Utilization and Disposal, 1800 F Street NW., Room 7040 Washington, DC 20405, (202) 501-0084; (These are not toll-free numbers).

Dated: July 11, 2013.
Mark Johnston,
Deputy Assistant Secretary for Special Needs.

TITLE V, FEDERAL SURPLUS PROPERTY PROGRAM FEDERAL REGISTER REPORT FOR 07/19/2013

SUITABLE/AVAILABLE PROPERTIES

BUILDING

SOUTH CAROLINA

Building 1036

311 Avocet Street, Street, Shaw AFB

Sumter SC 29152

Landholding Agency: Air Force

Property Number: 18201320086

Status: Unutilized

Comments: off-site removal only; no future agency need; 1,694 sf.; open storage for auto hobby shop; repairs needed; secured area; contact AF for more info.

SUITABLE/AVAILABLE PROPERTIES

BUILDING

SOUTH CAROLINA

Building 1826

100 Shaw Dr., Shaw AFB

Sumter SC 29152

Landholding Agency: Air Force

Property Number: 18201320087

Status: Unutilized

Comments: off-site removal only; no future agency need; 984sf. washrack; repairs needed; secured area; contact AF for more info.

SUITABLE/UNAVAILABLE PROPERTIES

BUILDING

WASHINGTON

Recreational cabin; Lot 92

435 S. Shore Rd.

Quinault WA 98575

Landholding Agency: GSA

Property Number: 54201320018

Status: Excess

GSA Number: 9-A-WA-1267

Directions: Disposal Agency: GSA; Landholding Agency: Interior (US Forest Service)

Comments:

CORRECTION: Property is not available; unavailable because of conveyance restriction to family and individuals recreational use only; 524 sf.; remote location; vacant for 48 months; significant reconstruction to the cabin & infrastructure required for habitability; to be used for recreational purposes only; cannot be used as a residence; use restricted and subject to qualification for term Special Use Permit; contact GSA for more info.

UNSUITABLE PROPERTIES

BUILDING

CALIFORNIA

Building 305, 308, 205, 408, 208

700 E. Roth Rd.

Lathrop CA 95231

Landholding Agency: Army

Property Number: 21201330001

Status: Unutilized

Comments: public access denied and no alternative method to gain access without compromising nat'l security

Reasons: Secured Area

Redding Outer

Adjacent Robinson Glen Dr. & Ges Pt. Rd.

Cottonwood CA 96002

Landholding Agency: GSA

Property Number: 54201320026

Status: Excess

GSA Number: 9-CA-1692

Directions: Disposal: GSA; Landholding Agency: Dept. of Transportation, FAA

Comments: landlocked; can only be reached by crossing private property & there is no established right or means of entry

Reasons: Not accessible by road

[FR Doc. 2013-17161 Filed 7-18-13; 8:45 am]

BILLING CODE 4210-67-P